DEPARTMENT OF THE INTERIOR

National Park Service

[NPS-WASO-NRNHL-12225; PPWOCRADI0, PCU00RP14.R50000]

Landmarks Committee of the National Park System Advisory Board Meeting

AGENCY: National Park Service, Interior.

ACTION: Notice of meeting.

SUMMARY: Notice is hereby given in accordance with the Federal Advisory Committee Act, 5 U.S.C. Appendix (1988), that a teleconference meeting of the Landmarks Committee of the National Park System Advisory Board will be held beginning at 1:00 p.m. on April 9, 2013, at the following location. Members of the public may attend the meeting in person in Washington, DC, or may participate via teleconference.

DATES: The meeting will be held on April 9, 2013, from 1:00 p.m. to 3:30 p.m., Eastern Daylight Time.

Location: The teleconference meeting will be held at the National Park Service, 1201 Eye Street NW., 2nd Floor, Washington, DC 20005.

Agenda: The National Park System Advisory Board and its Landmarks Committee may consider the following nominations:

Illinois

ADLAI E. STEVENSON II HOUSE, Mettawa

Michigan

THE DETROIT INDUSTRY MURALS, DETROIT INSTITUTE OF ARTS, Detroit

Pennsylvania

GEORGE NAKASHIMA WOODWORKER COMPLEX, Bucks County

The committee may also consider the following historic trail:

BUTTERFIELD OVERLAND NATIONAL HISTORIC TRAIL

FOR FURTHER INFORMATION CONTACT: Patricia Henry, National Historic Landmarks Program, National Park Service; 1201 Eye Street NW., 8th Floor; Washington, DC 20005; Telephone (202) 354-2216; Email: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The members of the committee, with exception of the Chair, will be participating remotely at this meeting. The members of the Landmarks Committee are:

Mr. Ronald James, Chair

Dr. James M. Allan

Dr. Cary Carson

Dr. Darlene Clark Hine

Mr. Luis Hoyos, AIA

Dr. Barbara J. Mills

Dr. William J. Murtagh

Dr. Franklin Odo

Dr. William D. Seale

Dr. Michael E. Stevens

The meeting will be open to the public at the location provided above or via teleconference. Due to the limited scope of this meeting, the NPS has determined that a teleconference will be the most efficient way to convene the Committee members. The Committee meeting will be open to the public in the same way that other Committee meetings have been open to the public in the past. Space and facilities to accommodate the public are limited and attendees will be accommodated on a first-come basis. Opportunities for oral comment will be limited to no more than 3 minutes per speaker and no more than 15 minutes total per property. The Committee Chairman will determine how time for oral comments will be allotted. To participate via teleconference interested parties must provide their name and email address to the Program by Friday, April 5; submit the requested contact information to Ms. Patty Henry at (202) 354-2216, or via email at Patty_Henry@nps.gov.

Pursuant to 36 CFR Part 65, any member of the public may file, for consideration by the Landmarks Committee of the National Park System Advisory Board, written comments concerning the National Historic Landmarks nominations. Comments should be submitted to J. Paul Loether, Chief, National Register of Historic Places and National Historic Landmarks Program, National Park Service; 1201 Eye Street NW., 8th Floor; Washington, DC 20005; Email: Paul_Loether@nps.gov.

Before including your address, phone number, email address, or other personal identifying information in your comment, you should be aware that your entire comment—including your personal identifying information—may be made publicly available at any time. While you can ask us in your comment to withhold your personal identifying information from public review, we cannot guarantee that we will be able to do so.

Dated: February 6, 2013.
J. Paul Loether,
Chief, National Register of Historic Places and National Historic Landmarks Program; National Park Service, Washington, DC

[FR Doc. 2013-04489 Filed 2-26-13; 8:45 am]

BILLING CODE 4312-51-P